DEPARTMENT OF THE INTERIOR

Bureau of Land Management

[LLWO320000 L13300000.EP0000; OMB Control Number 1004-0103]

Agency Information Collection Activities; Mineral Materials Disposal

AGENCY: Bureau of Land Management, Interior.

ACTION: Notice of information collection; request for comment.

SUMMARY: In accordance with the Paperwork Reduction Act of 1995, we, the Bureau of Land Management (BLM) are proposing to renew an information collection.

DATES: Interested persons are invited to submit comments on or before October 13, 2020.

ADDRESSES: Send your comments on this information collection request (ICR) by mail to the U.S. Department of the Interior, Bureau of Land Management, 1849 C Street NW, Room 2134LM, Attn. Faith Bremner, Washington, DC 20240; or by email to fbremner@blm.gov. Please reference Office of Management and Budget (OMB) Control Number 1004-0103 in the subject line of your comments.

FOR FURTHER INFORMATION CONTACT: To request additional information about this ICR, contact Timothy L. Barnes by email at tbarnes@blm.gov, or by telephone at 541-416-6858. Individuals who are hearing or speech impaired may call the Federal Relay Service at 1-800-877-8339 for TTY assistance.

SUPPLEMENTARY INFORMATION: In accordance with the PRA and its implementing regulations at 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The BLM is required by the Materials Act of 1947 (30 U.S.C. 601 and 602) and Section 302 of the Federal Land Policy and Management Act (43 U.S.C. 1732) to manage the sale and free use of mineral materials that are not subject to mineral leasing or location under the mining laws (e.g., common varieties of sand, stone, gravel, pumice, pumicite, clay, and rock). The Materials Act authorizes the BLM to sell these mineral materials at fair market value and to grant free-use permits to government agencies and nonprofit organizations. To obtain a sales contract or free-use permit, an applicant must submit information to identify themselves, the location of the site, and the proposed method to remove the mineral materials. The BLM uses the information to process each request for disposal, determine whether the request to dispose of mineral materials meets statutory requirements, and whether to approve the request.

Title of Collection: Mineral Materials Disposal (43 CFR part 3600).

OMB Control Number: 1004-0103.

Form Number: 3600-9, Contract for the Sale of Mineral Materials.

Type of Review: Extension of a currently approved collection.

Respondents/Affected Public: An estimated 265 businesses annually submit applications to purchase or use mineral materials from public lands.

Total Estimated Number of Annual Respondents: 265.

Total Estimated Number of Annual Responses: 3,870.

Estimated Completion Time per Response: Varies from 30 minutes to 30 hours, depending on activity.

Total Estimated Number of Annual Burden Hours: 5,833.

Respondent's Obligation: Required to obtain or retain a benefit.

Frequency of Collection: On occasion.

Total Estimated Annual Nonhour Burden Cost: $53,400.

An agency may not conduct or sponsor and a person is not required to respond to a collection of information unless it displays a currently valid OMB control number.

The authority for this action is the Paperwork Reduction Act of 1995 (44 U.S.C. 3501 et seq.).

Faith M. Bremner,
Senior Regulatory Analyst.

[FR Doc. 2020-17794 Filed 8-13-20; 8:45 am]

BILLING CODE 4310-84-P